FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011692-004.

Title: Indamex Agreement.

Parties: CMA CGM, S.A.; Contship Containerlines; Lykes Lines Limited, LLC; MacAndrews & Company Limited; and The Shipping Corporation of India, Ltd.

Filing Party: Wayne R. Rohde, Esq.; Sher & Blackwell; 1850 M Street, NW., Suite 900; Washington, DC 20036.

Synopsis: The amendment adds Lykes and MacAndrews as parties to the agreement.

Agreement No.: 011701-007.

Title: Pacific East Coast Express Agreement.

Parties: China Shipping Container Lines Co., Ltd.; CMA CGM, S.A.; P&O Nedlloyd B.V.; and P&O Nedlloyd Limited;

Filing Party: Paul M. Keane, Esq., Cichanowicz, Callan, Keane, Vengrow & Textor, LLP; 61 Broadway, Suite 3000; New York, NY 10006-2802.

Synopsis: The modification reflects that one of the vessels contributed by CMA under the agreement will now be provided by CMA's wholly-owned subsidiary ANL Singapore Pte Ltd. The parties request expedited review.

Agreement No.: 011733-012.

Title: Common Ocean Carrier Platform Agreement

Parties: A.P. Moller-Maersk A/S, P&O Nedlloyd Limited, Hamburg-Süd, Mediterranean Shipping Company S.A., CMA CGM S.A., Hapag Lloyd Container Linie GmbH, and United Arab Shipping Company (SAG), as shareholder parties, and Alianca Navegacao e Logistica Ltda., Safmarine Container Lines N.V., Nippon Yusen Kaisha, CP Ship Limited, Tasman Orient Line C.V., Mitsui O.S.K. lines Ltd., Lykes Lines Limited LLC, Kawasaki Kisen Kaisha Ltd., and FESCO Ocean Management Ltd. as non-shareholder parties.

Filing Party: Wayne R. Rohde, Esq.; Sher & Blackwell; 1850 M Street, NW., Suite 900; Washington, DC 20036.

Synopsis: The amendment adds FESCO Ocean Management Ltd. as a non-shareholder party to the agreement.

Dated: August 6, 2004.
By Order of the Federal Maritime Commission.
Bryant L. VanBrakle,
Secretary.

[FR Doc. 04-18375 Filed 8-10-04; 8:45 am]

BILLING CODE 6730-01-P